DEPARTMENT OF COMMERCE

National Oceanic and Atmospheric Administration

RIN 0648-XP92

Taking and Importing Marine Mammals; Taking Marine Mammals Incidental to Construction and Operation of Offshore Oil and Gas Facilities in the Beaufort Sea, Alaska

AGENCY: National Marine Fisheries Service (NMFS), National Oceanic and Atmospheric Administration (NOAA), Commerce.

ACTION: Notice of issuance of a letter of authorization.

SUMMARY: In accordance with the Marine Mammal Protection Act (MMPA), as amended, and implementing regulations, notice is hereby given that NMFS has issued a letter of authorization (LOA) to BP Exploration (Alaska), Inc. (BPXA) to take marine mammals incidental to the production of offshore oil and gas at the Northstar development in the Beaufort Sea off Alaska.

DATES: This Authorization is effective from July 7, 2009, through July 6, 2010.

ADDRESSES: The LOA and supporting documentation may be obtained by writing to P. Michael Payne, Office of Protected Resources, NMFS, 1315 East-West Highway, Silver Spring, MD 20910, or by telephoning one of the contacts listed here.

FOR FURTHER INFORMATION CONTACT: Candace Nachman (301) 713-2289 or Brad Smith (907) 271-3023.

SUPPLEMENTARY INFORMATION: Section 101(a)(5)(A) of the MMPA (16 U.S.C. 1361 et seq.) directs NMFS to allow, on request, the incidental, but not intentional, taking of small numbers of marine mammals by U.S. citizens who engage in a specified activity (other than commercial fishing) within a specified geographical region, if certain findings are made by NMFS and regulations are issued. Under the MMPA, the term “take” means to harass, hunt, capture, or kill or to attempt to harass, hunt, capture, or kill marine mammals.

Authorization may be granted for periods up to 5 years if NMFS finds, after notice and opportunity for public comment, that the taking will have a negligible impact on the species or stock(s) of marine mammals and will not have an unmitigable adverse impact on the availability of the species or stock(s) of marine mammals for subsistence uses. In addition, NMFS must prescribe regulations setting forth the permissible methods of taking and other means of effecting the least practicable adverse impact on the species and its habitat, and on the availability of the species for subsistence uses. The regulations also must include requirements pertaining to the monitoring and reporting of such taking. Regulations governing the taking of marine mammals incidental to construction and operation of the offshore oil and gas facility at Northstar became effective on April 6, 2006 (71 FR 11314, March 7, 2006), and remain in effect until April 6, 2011. For detailed information on this action, please refer to that document. These regulations include mitigation, monitoring, and reporting requirements. The six species of marine mammals that BP may take in small numbers during construction and operation of the Northstar facility are bowhead whales, gray whales, beluga whales, ringed seals, spotted seals, and bearded seals.

Summary of Request

On May 5, 2009, NMFS received a request from BPXA for a renewal of an LOA issued on July 1, 2008, for the taking of small numbers of marine mammals incidental to oil production operations at Northstar, under the regulations issued on March 7, 2006 (71 FR 11314). This request (BPXA, 2009) contains information in compliance with 50 CFR 216.209, which updates information provided in BPXA's original application for takings incidental to construction and operations at Northstar. BPXA also submitted the required activity and monitoring report under the 2008-2009 LOA.

Summary of Activity and Monitoring Under the 2008-2009 LOA

One offshore ice road was built during the 2007-2008 ice-covered season. Helicopters made 222 round trips to Northstar during the 2007-2008 ice-covered season to transport crew and materials to and from the facility and recommended flight corridors and altitude restrictions were maintained. Tucker tracked vehicles made a total of 111.5 round trips between West Dock and Northstar Island, and the hovercraft made 426 round trips during the 2007-2008 ice-covered season.

Drilling activities were conducted over two well sites on Northstar Island from January 18, 2008, to May 12, 2008. Vibratory pile driving occurred from February 15 to 19, 2008, and from July 24 to August 10, 2008, to place thermosiphons as part of the new protections system. No impact pile driving activities took place during the present reporting period. The 2008 repair activities consisted of placement of boulders along the northeast corner of the island during the ice-covered season from March 7 to April 24, 2008 and some minor repair activities during the open-water season in August 2008.

Aerial overflights were conducted weekly to inspect the pipeline for leaks or spills. There were nine reportable Northstar-related spills during the 2007-2008 ice-covered season and the 2008 open-water season. Two of the nine reportable spills reach Beaufort Sea water or ice. The contaminated material was recovered completely. Materials that reached Beaufort Sea water or ice included power steering fluid and hydraulic fluid. Material from the seven remaining spills did not reach the Beaufort Sea or sea ice. Contaminated snow, ice, and gravel were removed with various types of equipment and sorbents. No clean-up activity was necessary after Northstar flare events during the reporting period.

During the 2008 open-water period, there were 119 helicopter round trips, 445.5 hovercraft round trips, 45 tug and barge trips, and 55 Alaska Clean Seas Bay-class boat round trips to Northstar. There were an additional six trips by Bay-class boats in association with acoustic monitoring of the bowhead whale migration.

Seal observations in 2008 were conducted during 54 days from May 15-July 15. A total of 415 seals were observed (including presumed repeat sightings of the same animal on different days), which is more than in previous years over the same period. Results of seal counts conducted from Northstar Island during the reporting period did not provide evidence, or reason to suspect, that any seals were killed or injured by Northstar-related activities during 2008. No Northstar activity capable of reaching 180 or 190 dB (rms) in the water occurred during the last year, and, therefore, no monitoring of these “safety radii” was implemented.

An array of 10 Directional Autonomous Seafloor Acoustic Recorders (DASARs) were installed in August 2008. The array was deployed for approximately 29 days between August 27 and September 25, 2008. In 2008, the scope of the bowhead whale acoustic monitoring study was augmented relative to that in 2005-2007 and was generally similar to that in 2001-2004, although the study design was somewhat modified from that in 2001-2004. The geometry of the DASAR array was changed, and new emphasis was placed on understanding how far Northstar sounds propagate offshore. DASARs were deployed at locations 8.5-38.5 km (5.3-24 mi) NNE of Northstar Island and recorded sounds continuously for approximately 29 days, until September 25, 2008. Simultaneously, near-island recordings were obtained from three DASARs placed approximately 450 m (1,476 ft) north of Northstar over the same period. In total, 85,669 bowhead whale calls were detected on the records of the 10 array DASARs combined from a total of 350,597 call detections. When expressed as a number of calls per day, the 2008 number (1,337 calls/day) is the highest since the beginning of the study in 2001, exceeding the previous record of 989 calls/day in 2004. The much higher call counts in 2008 compared to the lower counts in 2005 and 2006 are probably related to the absence of nearshore pack ice during the 2008 season, meaning there were probably more whales closer to shore.

Post-field analyses of the near-island DASARs revealed the presence of a previously undetected pulsed sound. As soon as possible after ice break-up in 2009, a hydrophone will be used to determine if this sound is still present. If present, attempts will be made to localize the source and to either remove it or reduce its sound output.

Subsistence hunters from Nuiqsut who traveled to Cross Island for the annual bowhead whale hunt did not report any negative effects from Northstar activities on their ability to conduct the hunt. In 2008, Nuiqsut whalers landed their full quota of four whales.

Authorization

BPXA complied with the requirements of the 2008 LOA, and NMFS has determined that the marine mammal take resulting from the 2008 construction and operation activities is within that analyzed in and anticipated by the associated regulations. Accordingly, NMFS has issued a 1-year LOA to BPXA, authorizing the taking of small numbers of marine mammals incidental to oil production construction and operations at the Northstar offshore facility in state and Federal waters in the U.S. Beaufort Sea. Issuance of this LOA is based on findings described in the preamble to the final rule (71 FR 11314, March 7, 2006) and supported by information contained in BPXA's 2008 annual report that the activities described in the LOA will result in the taking of no more than small numbers of bowhead whales, beluga whales, ringed seals, and, possibly California gray whales, bearded seals, and spotted seals and that the total taking will have a negligible impact on these marine mammal stocks and would not have an unmitigable adverse impact on the availability of these species or stocks for taking for subsistence uses. This LOA will be renewed annually based on review of the annual monitoring report.

Dated: June 18, 2009.
James H. Lecky,
Director, Office of Protected Resources, National Marine Fisheries Service.

[FR Doc. E9-15188 Filed 6-26-09; 8:45 am]

BILLING CODE 3510-22-S